DEPARTMENT OF THE INTERIOR

National Park Service

[NPS-WASO-NAGPRA-NPS0035570; PPWOCRADN0-PCU00RP14.R50000]

Notice of Inventory Completion: Central Washington University, Ellensburg, WA

AGENCY: National Park Service, Interior.

ACTION: Notice.

SUMMARY: In accordance with the Native American Graves Protection and Repatriation Act (NAGPRA), Central Washington University has completed an inventory of human remains and associated funerary objects and has determined that there is a cultural affiliation between the human remains and associated funerary objects and Indian Tribes or Native Hawaiian organizations in this notice. The human remains and associated funerary objects were removed from Pacific County, WA.

DATES: Repatriation of the human remains and associated funerary objects in this notice may occur on or after May 4, 2023.

ADDRESSES: Lourdes Henebry-DeLeon, Department of Anthropology and Museum Studies, Central Washington University, 400 University Way, Ellensburg, WA 98926-7544, telephone (509) 963-2671, email Lourdes.Henebry-DeLeon@cwu.edu.

SUPPLEMENTARY INFORMATION: This notice is published as part of the National Park Service's administrative responsibilities under NAGPRA. The determinations in this notice are the sole responsibility of Central Washington University. The National Park Service is not responsible for the determinations in this notice. Additional information on the determinations in this notice, including the results of consultation, can be found in the inventory or related records held by Central Washington University.

Description

In 1957, human remains representing, at minimum, two individuals were removed from the Martin Site (45-PC-7) in Pacific County, WA, by then University of Washington graduate student James Alexander. Site 45-PC-7 dates from 700 to 1800 years BP. Sometime later, these human remains, together with associated funerary objects, were among a collection returned to Central Washington University Department of Anthropology by (former) faculty member Dr. Alexander. While unpacking the boxes containing this collection, staff identified possible human remains, whereupon the collection was transferred to the NAGPRA Director, who formally accessioned the collection in 2021 (CWU Accession Box EC). No known individuals were identified. The 13 associated funerary objects are one bag of dirt, eight animal bones, one small rock, and three shells.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological, biological, geographical, and historical.

Determinations

Pursuant to NAGPRA and its implementing regulations, and after consultation with the appropriate Indian Tribes and Native Hawaiian organizations, Central Washington University has determined that:

• The human remains described in this notice represent the physical remains of two individuals of Native American ancestry.

• The 13 objects described in this notice are reasonably believed to have been placed with or near individual human remains at the time of death or later as part of the death rite or ceremony.

• There is a relationship of shared group identity that can be reasonably traced between the human remains and associated funerary objects described in this notice and the Shoalwater Bay Indian Tribe of the Shoalwater Bay Indian Reservation.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after May 4, 2023. If competing requests for repatriation are received, Central Washington University must determine the most appropriate requestor prior to repatriation. Requests for joint repatriation of the human remains and associated funerary objects are considered a single request and not competing requests. Central Washington University is responsible for sending a copy of this notice to the Indian Tribe identified in this notice.

Authority: Native American Graves Protection and Repatriation Act, 25 U.S.C. 3003, and the implementing regulations, 43 CFR 10.9, 10.10, and 10.14.

Dated: March 22, 2023.
Melanie O'Brien,
Manager, National NAGPRA Program.

[FR Doc. 2023-06917 Filed 4-3-23; 8:45 am]

BILLING CODE 4312-52-P